POSTAL REGULATORY COMMISSION

[Docket Nos. MC2017-49 and CP2017-75; MC2017-50 and CP2017-76; MC2017-51 and CP2017-77; MC2017-52 and CP2017-78; MC2017-53 and CP2017-79]

New Postal Products

AGENCY: Postal Regulatory Commission.

ACTION: Notice.

SUMMARY: The Commission is noticing recent Postal Service filings for the Commission's consideration concerning negotiated service agreements. This notice informs the public of the filing, invites public comment, and takes other administrative steps.

DATES: Comments are due: December 22, 2016 (Comment due date applies to Docket Nos. MC2017-49 and CP2017-75; Docket Nos. MC2017-50 and CP2017-76; Docket Nos. MC2017-51 and CP2017-77); and December 23, 2016 (Comment due date applies to Docket Nos. MC2017-52 and CP2017-78; Docket Nos. MC2017-53 and CP2017-79).

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Docketed Proceeding(s)

I. Introduction

The Commission gives notice that the Postal Service filed request(s) for the Commission to consider matters related to negotiated service agreement(s). The request(s) may propose the addition or removal of a negotiated service agreement from the market dominant or the competitive product list, or the modification of an existing product currently appearing on the market dominant or the competitive product list.

Section II identifies the docket number(s) associated with each Postal Service request, the title of each Postal Service request, the request's acceptance date, and the authority cited by the Postal Service for each request. For each request, the Commission appoints an officer of the Commission to represent the interests of the general public in the proceeding, pursuant to 39 U.S.C. 505 (Public Representative). Section II also establishes comment deadline(s) pertaining to each request.

The public portions of the Postal Service's request(s) can be accessed via the Commission's Web site (http://www.prc.gov). Non-public portions of the Postal Service's request(s), if any, can be accessed through compliance with the requirements of 39 CFR 3007.40.

The Commission invites comments on whether the Postal Service's request(s) in the captioned docket(s) are consistent with the policies of title 39. For request(s) that the Postal Service states concern market dominant product(s), applicable statutory and regulatory requirements include 39 U.S.C. 3622, 39 U.S.C. 3642, 39 CFR part 3010, and 39 CFR part 3020, subpart B. For request(s) that the Postal Service states concern competitive product(s), applicable statutory and regulatory requirements include 39 U.S.C. 3632, 39 U.S.C. 3633, 39 U.S.C. 3642, 39 CFR part 3015, and 39 CFR part 3020, subpart B. Comment deadline(s) for each request appear in section II.

II. Docketed Proceeding(s)

1. Docket No(s).: MC2017-49 and CP2017-75; Filing Title: Request of the United States Postal Service to Add Priority Mail Express Contract 44 to Competitive Product List and Notice of Filing (Under Seal) of Unredacted Governors' Decision, Contract, and Supporting Data; Filing Acceptance Date: December 14, 2016; Filing Authority: 39 U.S.C. 3642 and 39 CFR 3020.30 et seq.; Public Representative: Max E. Schnidman; Comments Due: December 22, 2016.

2. Docket No(s).: MC2017-50 and CP2017-76; Filing Title: Request of the United States Postal Service to Add Priority Mail Contract 273 to Competitive Product List and Notice of Filing (Under Seal) of Unredacted Governors' Decision, Contract, and Supporting Data; Filing Acceptance Date: December 14, 2016; Filing Authority: 39 U.S.C. 3642 and 39 CFR 3020.30 et seq.; Public Representative: Max E. Schnidman; Comments Due: December 22, 2016.

3. Docket No(s).: MC2017-51 and CP2017-77; Filing Title: Request of the United States Postal Service to Add Priority Mail Contract 274 to Competitive Product List and Notice of Filing (Under Seal) of Unredacted Governors' Decision, Contract, and Supporting Data; Filing Acceptance Date: December 14, 2016; Filing Authority: 39 U.S.C. 3642 and 39 CFR 3020.30 et seq.; Public Representative: Gregory Stanton; Comments Due: December 22, 2016.

4. Docket No(s).: MC2017-52 and CP2017-78; Filing Title: Request of the United States Postal Service to Add Priority Mail Contract 275 to Competitive Product List and Notice of Filing (Under Seal) of Unredacted Governors' Decision, Contract, and Supporting Data; Filing Acceptance Date: December 14, 2016; Filing Authority: 39 U.S.C. 3642 and 39 CFR 3020.30 et seq.; Public Representative: Gregory Stanton; Comments Due: December 23, 2016.

5. Docket No(s).: MC2017-53 and CP2017-79; Filing Title: Request of the United States Postal Service to Add Priority Mail Contract 276 to Competitive Product List and Notice of Filing (Under Seal) of Unredacted Governors' Decision, Contract, and Supporting Data; Filing Acceptance Date: December 14, 2016; Filing Authority: 39 U.S.C. 3642 and 39 CFR 3020.30 et seq.; Public Representative: Curtis E. Kidd; Comments Due: December 23, 2016.

This Notice will be published in the Federal Register.

Stacy L. Ruble,
Secretary.

[FR Doc. 2016-30664 Filed 12-20-16; 8:45 am]

BILLING CODE 7710-FW-P